DEPARTMENT OF COMMERCE

National Oceanic and Atmospheric Administration

[I.D. 031607C]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Multispecies (Skate) Committee, in April, 2007, to consider actions affecting New England fisheries in the exclusive economic zone (EEZ). Recommendations from this group will be brought to the full Council for formal consideration and action, if appropriate.

DATES: This meeting will be held on Friday, April 6, 2007, at 9:30 a.m.

ADDRESSES: This meeting will be held at the Holiday Inn, 31 Hampshire Street, Mansfield, MA 02048; telephone: (508) 339-2200; fax: (508) 256-2550.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will receive management advice from the Skate Plan Development Team (PDT) based on the status of skate stocks in the recent SAW assessment. In addition, the committee will discuss strawman management alternatives and review a draft scoping document. The Regional Administrator, Patricia Kurkul, notified the Council on February 21, 2007 that winter skate is overfished according to 2006 data. The letter stated that the Magnuson-Stevens Act requires the Council to prepare a fishery management plan amendment or proposed regulation within one year to address the condition. In addition to winter skate, thorny skate is an overfished condition, smooth skate is very close to the biomass threshold, and little skate is very close to the overfishing threshold. Under other business, the Multispecies (Skate) Committee may discuss groundfish management issues at this meeting but will not take action at this time.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: March 19, 2007.
Tracey L. Thompson,
Acting Director, Office of Sustainable Fisheries, National Marine Fisheries Service.

[FR Doc. E7-5306 Filed 3-22-07; 8:45 am]

BILLING CODE 3510-22-S